DEPARTMENT OF AGRICULTURE

Forest Service

Glady Fork Environmental Impact Statement, Monongahela National Forest, Randolph and Tucker Counties, WV

AGENCY: Forest Service, USDA.

ACTION: Notice of intent to prepare an environmental impact statement.

SUMMARY: The USDA Forest Service will prepare an environmental impact statement for timber harvest, stream restoration, wildlife enhancement, and road management activities in the Glady Fork watershed of the Monongahela National Forest. This notice provides a description of the proposed action, displays the estimated dates for filing the EIS, provides information concerning public participation, and provides the names and addresses of the responsible agency official and individuals who can provide additional information.

DATES: We need to receive your comments on this Notice of Intent in writing 45 days after this notice is published in the Federal Register. The draft environmental impact statement is expected February 2003 and the final environmental impact statement is expected May 2003.

ADDRESSES: Send written comments to: Michele Jones, Forest NEPA Team Leader, Monongahela National Forest, 200 Sycamore Street, Elkins, West Virginia 26241. Faxes should be sent to (304) 636-1875. For further information, mail correspondence to the same address.

FOR FURTHER INFORMATION CONTACT: Michele Jones, Forest NEPA Team Leader, Monongahela National Forest, 200 Sycamore Street, Elkins, West Virginia 26241, or by calling (304) 636-1800.

SUPPLEMENTARY INFORMATION:

Purpose and Need for Action

The purpose and need for action in the Glady Fork project area is to increase forest health, to improve water quality and fish habitat, to enhance wildlife habitat, and to provide forest products to the local community.

Proposed Action

The proposed activities all fall within Management Prescription 6.1 under the Monongahela National Forest Land and Resource Management Plan. The primary purpose of Management Prescription 6.1 is to manage for remote habitat species intolerant of disturbance. Secondary purposes are to manage for a semi-primitive non-motorized type of recreational environment, a mix of forest products, and manage sites reverting from hardwood to conifer and the intermingled high site hardwood types.

The proposed action includes an estimated 797 acres of thinning, 689 acres of crop tree release, 51 acres of clearcuts, 96 acres of shelterwood, 345 acres of two-age harvest, and 20 acres of overstory removal. In total, approximately 1,998 acres of commercial timber harvest is proposed, which would be logged by using helicopter yarding on 1,205 acres and 793 acres of conventional ground-based skidding. Post-harvest treatments proposed include 609 acres of herbicide use, site preparation, and fencing, and 51 acres of planting.

Road management proposed in the Glady Fork project includes 2.0 miles of new road construction, 25.5 miles of road maintenance, 3.3 miles of road to be put in storage, and 10.3 miles of road to be abandoned.

Planting or seeding of willow, aspen, alder, or other native trees or shrubs along Daniels Creek is proposed to provide shade and future large woody debris. In addition, trees would be placed in Daniels Creek, McCray Run, and Nichols Lane Run to help channel stability and to provide stream structure.

The proposed action includes one stand that would be converted to a savannah, approximately 10 acres in size. An estimated 56 acres of red spruce release would occur to improve habitat for wildlife species such as the endangered West Virginia northern flying squirrel. Two wildlife openings, approximately 3 acres each, would be developed to provide open, grassy habitat for species such as white-tailed deer, wild turkey, and black bear.

Responsible Official

The responsible official is Clyde N. Thompson, Monongahela National Forest Supervisor, 200 Sycamore Street, Elkins, West Virginia 26241.

Nature of Decision To Be Made

The responsible official will make a determination in his decision whether the proposed action should proceed as proposed, as modified, or not at all. The decision will also include mitigation measures to be implemented with the project and associated monitoring requirements. The decision maker will also determine whether or not an amendment to the Monongahela National Forest Land and Resource Management Plan is needed.

Scoping Process

The scoping period last for 45 days from the date this notice is published in the Federal Register. Written and oral comments from the public will be received through the postal service, via fax, or over the telephone. No public meetings, open houses, or field trips are planned at this time.

Comment Requested

This notice of intent initiates the scoping process which guides the development of the environmental impact statement. Comments will be used to identify significant issues, which will be used to develop alternatives to the proposed action. Comments should be as specific as possible. In order for the Forest Service to consider research identified in comments, the commentor must identify why the research is pertinent to the Glady Fork project and must provide a copy of the research papers.

Early Notice of Importance of Public Participation in Subsequent Environmental Review: A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7. and 1508.22; Forest Service Handbook 1909.15, Section 21)

Dated: June 28, 2002.
Clyde N. Thompson,
Forest Supervisor.

[FR Doc. 02-16816 Filed 7-3-02; 8:45 am]

BILLING CODE 3410-11-M